NATIONAL AERONAUTICS AND SPACE ADMINISTRATION

48 CFR Parts 1804, 1815, 1816, 1817, 1823, 1837, and 1852

RIN 2700-AD05

Government Property and Miscellaneous Editorial Changes

AGENCY: National Aeronautics and Space Administration.

ACTION: Final rule.

SUMMARY: This final rule amends the NASA FAR Supplement (NFS) to resolve a conflict in a Government Property clause and change all references to NASA Procedures and Guidelines (NPGs) documents to NASA Procedural Requirements (NPRs) documents. The changes are being made to insure that the applicable property clause gives consistent direction and that correct references are made to NASA requirements documents.

EFFECTIVE DATE: November 2, 2004.

ADDRESSES: Interested parties may submit comments, identified by RIN number 2700-AD05 via the Federal eRulemaking Portal: http://www.regulations.gov. Follow the instructions for submitting comments. Comments may also be submitted to Lou Becker, NASA, Office of Procurement, Contract Management Division (Code HK), Washington, DC 20546. Comments can also be submitted by e-mail to: Lou.Becker@nasa.gov.

FOR FURTHER INFORMATION CONTACT: Lou Becker, NASA, Office of Procurement, Contract Management Division (Code HK), (202) 3584593, e-mail: Lou.Becker@nasa.gov.

SUPPLEMENTARY INFORMATION:

A. Background

The clause at NFS 1852.245-71, and its Alternate I, currently provides conflicting direction regarding delivery of property. A review of the clause revealed that the original intent was for Alternate I to be substituted for direction in the basic clause—not to be additive. Also, based on an agency-wide review of policy directives and requirements, a decision was made to change all of the documents designated as NASA Procedures and Guidelines (NPGs) to reflect the title of NASA Procedural Requirements (NPRs). This final rule changes all references in the NASA FAR Supplement to reflect the proper designation of the documents.

This is not a significant regulatory action and, therefore, was not subject to review under section 6(b) of Executive Order 12866, Regulatory Planning and Review, dated September 30, 1993. This rule is not a major rule under 5 U.S.C. 804.

B. Regulatory Flexibility Act

This final rule is not expected to have a significant economic impact on a substantial number of small entities with the meaning of the Regulatory Flexibility Act, 5 U.S.C. 601 et seq., because it only corrects or clarifies current guidance and adds no new requirements.

C. Paperwork Reduction Act

The Paperwork Reduction Act does not apply because the changes do not impose recordkeeping or information collection requirements which require the approval of the Office of Management and Budget under 44 U.S.C. 3501, et seq.

List of Subjects in 48 CFR 1804, 1815, 1816, 1817, 1823, 1837, and 1852

Government procurement.

Tom Luedtke,
Deputy Chief Acquisition Officer/Director for Procurement.

Accordingly, 48 CFR parts 1804, 1815, 1816, 1817, 1823, 1837, and 1852 are amended as follows:

1. The authority citation for 48 CFR parts 1804, 1815, 1816, 1817, 1823, 1837, and 1852 continues to read as follows:

Authority: 42 U.S.C. 2473(c)(1).

PART 1804—ADMINISTRATIVE MATTERS

1804.402 [Amended]

2. Amend paragraph (b) by removing “NPG 1600.6A, Communications Security Procedures and Guidelines”; by removing “NPG 1620.1, Security Procedures and Guidelines” and adding “NPR 1620.1, Security Procedural Requirements” in its place; and by removing the last reference to “NPG” and adding “NPR” in its place.

1804.470-2 [Amended]

3. Amend paragraph (a) introductory text by removing “NPG” and adding “NPR” in its place.

1804.470-3 [Amended]

4-5. Amend paragraph (b) introductory text by removing “NPG” and adding “NPR” in its place; and amend paragraph (c) by removing “NPG” and adding “NPR” in its place.

PART 1815—CONTRACTING BY NEGOTIATION

1815.602 [Amended]

6. Amend Section 1815.602(1) by removing “NPG” and adding “NPR” in its place.

1815.7001 [Amended]

7. Amend section 1815.7001 by removing “NPG” and adding “NPR” in its place.

PART 1816—TYPES OF CONTRACTS

1816.506-70 [Amended]

8. Amend section 1816.506-70 by removing “NPG” and adding “NPR” in its place.

PART 1817—SPECIAL CONTRACTING METHODS

1817.7101 [Amended]

9. Amend paragraph (b) by removing “NPG” and adding “NPR” in its place.

PART 1823—ENVIRONMENT, ENERGY AND WATER EFFICIENCY, RENEWABLE ENERGY TECHNOLOGIES, OCCUPATIONAL SAFETY, AND DRUG-FREE WORKPLACE

1823.1005 [Amended]

10. Amend paragraph (b)(2)(ii) by removing “NPG” and adding “NPR” in its place.

PART 1837—SERVICE CONTRACTING

1837.104 [Amended]

11. Amend paragraph (b) by removing “NPG” and adding “NPR” in its place.

1837.203 [Amended]

12-13. Amend paragraph (c) by removing “NPG” and adding “NPR” in its place.

PART 1852—SOLICITATION PROVISIONS AND CONTRACT CLAUSES

1852.204-76 [Amended]

14. Amend section 1852.204-76 by—

A. Revising the date of the clause to read NOV 2004;

B. In paragraph (b)(2), removing “NPG” and adding “NPR” in its place;

C. In paragraph (b)(3), removing “NPG 1620.1, NASA Security Procedures and Guidelines” and adding “NPR 1620.1, NASA Security Procedural Requirements” in its place;

D. In paragraph (d)(1), removing “NPG” and adding “NPR” in its place; and

E. In paragraph (e), removing “NPG” and adding “NPR” in its place.

1852.208-81 [Amended]

15. Amend section 1852.208-81 by—

A. Revising the date of the clause to read NOV 2004; and

B. In paragraph (e), removing “NPG 1490.5, NASA Procedures and Guidelines for Printing, Duplicating, and Copying Management” and adding “NPR 1490.5, NASA Procedural Requirements for Printing, Duplicating, and Copying Management” in its place.

1852.211-70 [Amended]

16. Amend section 1852.211-70 by—

A. Revising the date of the clause to read NOV 2004; and

B. In paragraph (a), removing “NPG” and adding “NPR” in its place.

1852.223-73 [Amended]

17. Amend section 1852.223-73 by—

A. Revising the date of the clause to read NOV 2004, and in paragraph (a), removing “NPG” and adding “NPR” in its place; and

B. In ALTERNATE I, revising the date to read NOV 2004, and removing “NPG” and adding “NPR” in its place.

1852.235-72 [Amended]

18. Amend section 1852.235-72 by—

A. Revising the date of the clause to read NOV 2004; and

B. In paragraph (a)(4), removing “NPG” and adding “NPR” in its place.

1852.242-73 [Amended]

19. Amend section 1852.242-73 by—

A. Revising the date of the clause to read NOV 2004; and

B. In paragraph (a), removing “NPG” and adding “NPR” in its place.

1852.245-71 [Amended]

20. Amend section 1852.245-71 by—

A. Revising the date of the clause to read NOV 2004; and

B. Revising ALTERNATE I to read as follows:

1852.245-73 Installation—Accountable Government Property.

* * * * *

Alternate I (NOV 2004)

As prescribed in 1845.106-70(b)(4), substitute the following for paragraph (b)(1)(i) of the basic clause:

(i) The contractor shall not utilize the installation's central receiving facility for receipt of Contractor-acquired property. However, the Contractor shall provide listings suitable for establishing accountable records of all such property received, on a quarterly basis, to the Contracting Officer and the Supply and Equipment Management Officer.

[FR Doc. 04-24126 Filed 11-1-04; 8:45 am]

BILLING CODE 7510-01-P